MARINE MAMMAL COMMISSION

Sunshine Act Notice

Time and Date: The Marine Mammal Commission and its Committee of Scientific Advisors on Marine Mammals will meet on Tuesday, 12 September, and Wednesday, 13 September, 2006, from 8:30 a.m. to 6 p.m. The meetings are open to the public.

Place: National Conservation Training Center, 698 Conservation Way, Shepherdstown, WV 25443; telephone: 304-876-1600; Web site: http://training.fws.gov/.

ACCESSIBILITY AND PARTICIPATION: All portions of the meeting will be open to public observation. Because the meeting is being held at a Federal facility, public attendees will be subject to a security check. To facilitate this, individuals planning to attend the meeting should submit their names to the contact person listed below by 5 September 2006. Otherwise, attendees may be briefly delayed at the facility entrance.

Public participation in meeting discussions will be allowed as time permits and as determined to be desirable by the Chairman. Individuals may also file written statements on the agenda topics for consideration by the Commission and its Committee of Scientific Advisors. Such statements should be sent the contract person indicated below by 5 September 2006.

Matters to be Considered: The Commission and Committee will meet to review and discuss, among other things, the Commissions' responsibilities and criteria for identifying priority issues and priority marine mammal species, the Commission's role in international issues and participation in international forums, the criteria and processes for reviewing applications for permits to take marine mammals, the composition and best use of the Committee of Scientific Advisors and the staff, and other issues that may arise. The agenda for the meeting is subject to change but will be posted and, as necessary, updated on the Commission's Web site at http://www.mmc.gov.

Contact Person for More Information: Suzanne Montgomery, Special Assistant to the Executive Director, Marine Mammal Commission, 4340 East-West Highway, Room 905, Bethesda, MD 20814; telephone: 301-504-0087; e-mail smontgomery@mmc.gov.

Dated: August 18, 2006.
Timothy J. Ragen,
Acting Executive Director.

[FR Doc. 06-7116 Filed 8-18-06; 2:32 pm]

BILLING CODE 6820-31-M